DEPARTMENT OF AGRICULTURE

Submission for OMB Review; Comment Request

April 5, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: Public Television Digital Transition Grant Program

OMB Control Number: 0572-0134

Summary of Collection: The Omnibus Appropriations Act (Pub. L. 108-7) provided grant funds in the Distance Learning and Telemedicine Grant Program budget, the Consolidated Appropriations Act (Pub. L. 108-199) and the Consolidated Appropriations Act, 2005 (Pub. L. 108-447) provided additional funds for public broadcasting systems to meet the digital transition. As part of the nation's transition to digital television, the Federal Communications Commission (FCC) required all television broadcasters to initiate the broadcast of a digital television signal and to cease analog television broadcasts on February 18, 2009. While stations must broadcast its main transmitter signal in digital, many rural stations often have translators serving small or isolated areas and some of these have not completed the transition to digital or fully converted its production and studio equipment to digital. Because the FCC deadline did not apply to translators, they are allowed to continue broadcasting in analog. The digital transition also created some service gaps where households receiving an analog signal cannot receive a digital signal. For these reasons the grant program has continued past the FCC digital transition deadline of June 2009. The Rural Utilities Service (RUS) will develop and issue requirements for the grant program to finance the conversion of television services from analog to digital broadcasting for public television stations serving rural areas.

Need and Use of the Information: Applicants will submit grant applications to RUS for review. The information will consist of the following: Standard Form (SF) 424, “Application for Federal Assistance, executive summary, evidence of eligibility and compliance with other Federal statutes and any other supporting documentation. RUS will use the information to score and rank applications for funding. Scoring will consist of three categories: Rurality; per capita income; and special disadvantaging factors facing the station's transition plans. If this information is not collected, there would be no basis for awarding grant funding.

Description of Respondents: Not-for-profit institutions; State, Local or Tribal Government

Number of Respondents: 40

Frequency of Responses: Reporting: On occasion

Total Burden Hours: 950

Charlene Parker,
Departmental Information Collection Clearance Officer.

[FR Doc. 2011-8491 Filed 4-8-11; 8:45 am]

BILLING CODE 3410-15-P